DEPARTMENT OF ENERGY

Federal Energy Regulatory Commission

Combined Notice of Filings #1

Take notice that the Commission received the following electric corporate filings:

Docket Numbers: EC25-99-000.

Applicants: Burgess Biopower, LLC, White Mountain Power, LLC.

Description: Joint Application for Authorization Under Section 203 of the Federal Power Act of Burgess BioPower, LLC, et al.

Filed Date: 6/10/25.

Accession Number: 20250610-5221.

Comment Date: 5 p.m. ET 7/1/25.

Docket Numbers: EC25-100-000.

Applicants: NedPower Mount Storm LLC.

Description: Application for Authorization Under Section 203 of the Federal Power Act of NedPower Mount Storm LLC.

Filed Date: 6/11/25.

Accession Number: 20250611-5106.

Comment Date: 5 p.m. ET 7/2/25.

Take notice that the Commission received the following Complaints and Compliance filings in EL Dockets:

Docket Numbers: EL25-92-000.

Applicants: McKenzie Electric Cooperative, Inc. v. Basin Electric Power Cooperative.

Description: Complaint of McKenzie Electric Cooperative, Inc. v. Basin Electric Power Cooperative under EL25-92.

Filed Date: 6/10/25.

Accession Number: 20250610-5200.

Comment Date: 5 p.m. ET 6/30/25.

Take notice that the Commission received the following electric rate filings:

Docket Numbers: ER10-1290-011.

Applicants: San Diego Gas & Electric Company.

Description: Supplement to 07/31/2023, Notice of Non-Material Change in Status of San Diego Gas & Electric Company.

Filed Date: 6/10/25.

Accession Number: 20250610-5201.

Comment Date: 5 p.m. ET 7/1/25.

Docket Numbers: ER10-2238-011; ER10-2239-011; ER12-896-007; ER14-1818-029; ER16-748-005; ER19-1577-003.

Applicants: Kearny Mesa Storage, LLC, Sentinel Energy Center, LLC, Boston Energy Trading and Marketing LLC, Mariposa Energy, LLC, Larkspur Energy LLC, Indigo Generation LLC.

Description: Triennial Market Power Analysis for Southwest Region of Indigo Generation LLC, et al.

Filed Date: 6/10/25.

Accession Number: 20250610-5198.

Comment Date: 5 p.m. ET 7/1/25.

Docket Numbers: ER10-2895-024; ER14-1964-015; ER16-287-010; ER12-161-026; ER20-2028-001; ER13-2143-017; ER10-3167-017; ER13-203-016; ER12-2068-021; ER17-482-009; ER19-1074-009; ER10-1427-003; ER20-1447-005; ER10-2917-024; ER19-1075-009; ER19-529-009; ER13-1613-017; ER10-2460-022; ER10-2461-023; ER10-2918-025; ER10-2920-025; ER12-682-023; ER10-2463-021; ER11-2201-027; ER22-192-003; ER10-2921-024; ER10-2922-024; ER13-17-021; ER10-2966-024; ER11-2383-020; ER12-1311-021; ER10-2466-022; ER22-1010-002; ER11-4029-021.

Applicants: Vermont Wind, LLC, TerraForm IWG Acquisition Holdings II, LLC, Stetson Wind II, LLC, Stetson Holdings, LLC, Safe Harbor Water Power Corporation, Rumford Falls Hydro LLC, Niagara Wind Power, LLC, Hawks Nest Hydro LLC, Great Lakes Hydro America, LLC, Evolugen Trading and Marketing LP, Evergreen Wind Power III, LLC, Evergreen Wind Power, LLC, Erie Wind, LLC, Erie Boulevard Hydropower, L.P., Carr Street Generating Station, L.P., Canandaigua Power Partners II, LLC, Canandaigua Power Partners, LLC, Brookfield White Pine Hydro LLC, Brookfield Renewable Trading and Marketing LP, Brookfield Renewable Energy Marketing US LLC, Brookfield Power Piney & Deep Creek LLC, Brookfield Energy Marketing US LLC, Brookfield Energy Marketing LP, Brookfield Energy Marketing Inc., BREG Aggregator LLC, Blue Sky East, LLC, Black Bear SO, LLC, Black Bear Hydro Partners, LLC, Black Bear Development Holdings, LLC, Bitter Ridge Wind Farm, LLC, Bishop Hill Energy LLC, BIF III Holtwood LLC, LSP Safe Harbor Holdings, LLC, Bear Swamp Power Company LLC.

Description: Supplement to December 30, 2022 Updated Market Power Analysis for Northeast Region and Notice of Change in Status of Bear Swamp Power Company LLC, et al.

Filed Date: 2/22/23.

Accession Number: 20230222-5228.

Comment Date: 5 p.m. ET 7/2/25.

Docket Numbers: ER16-2409-001.

Applicants: Aurora Generation, LLC.

Description: Compliance filing: Informational Filing Regarding Upstream Transfer of Ownership to be effective N/A.

Filed Date: 6/11/25.

Accession Number: 20250611-5189.

Comment Date: 5 p.m. ET 7/2/25.

Docket Numbers: ER17-1657-003.

Applicants: Armstrong Power, LLC.

Description: Compliance filing: Informational Filing Regarding Upstream Transfer of Ownership to be effective N/A.

Filed Date: 6/11/25.

Accession Number: 20250611-5187.

Comment Date: 5 p.m. ET 7/2/25.

Docket Numbers: ER18-646-004.

Applicants: Chambersburg Energy, LLC.

Description: Compliance filing: Informational Filing Regarding Upstream Transfer of Ownership to be effective N/A.

Filed Date: 6/11/25.

Accession Number: 20250611-5193.

Comment Date: 5 p.m. ET 7/2/25.

Docket Numbers: ER20-2471-007.

Applicants: NedPower Mount Storm, LLC.

Description: Compliance filing: NedPower Mount Storm LLC submits tariff filing per 35: Informational Filing Regarding Transfer of Ownership to be effective N/A.

Filed Date: 6/11/25.

Accession Number: 20250611-5034.

Comment Date: 5 p.m. ET 7/2/25.

Docket Numbers: ER21-1225-005; ER22-867-002.

Applicants: Long Ridge Retail Electric Supplier LLC, Long Ridge Energy Generation LLC.

Description: Supplement to 06/30/2023, Triennial Market Power Analysis for Northeast Region of Long Ridge Energy Generation LLC, et al.

Filed Date: 6/9/25.

Accession Number: 20250609-5237.

Comment Date: 5 p.m. ET 6/30/25.

Docket Numbers: ER25-2195-001.

Applicants: PJM Interconnection, L.L.C.

Description: Tariff Amendment: AMD of GIA, SA No. 7658; R76/AE2-160 & Cancellation of CSA, SA No. 3862; R76 to be effective 4/9/2025.

Filed Date: 6/10/25.

Accession Number: 20250610-5188.

Comment Date: 5 p.m. ET 7/1/25.

Docket Numbers: ER25-2482-000.

Applicants: Duke Energy Carolinas, LLC.

Description: § 205(d) Rate Filing: Administrative Filing for Emergency Energy Agreements and Interconnection Agreem to be effective 6/2/2025.

Filed Date: 6/10/25.

Accession Number: 20250610-5180.

Comment Date: 5 p.m. ET 7/1/25.

Docket Numbers: ER25-2483-000.

Applicants: PJM Interconnection, L.L.C.

Description: § 205(d) Rate Filing: Amendment to ISA, Service Agreement No. 7069; Queue No. AF1-064 to be effective 8/11/2025.

Filed Date: 6/11/25.

Accession Number: 20250611-5021.

Comment Date: 5 p.m. ET 7/2/25.

Docket Numbers: ER25-2484-000.

Applicants: New York State Electric & Gas Corporation, New York Independent System Operator, Inc.

Description: § 205(d) Rate Filing: New York Independent System Operator, Inc. submits tariff filing per 35.13(a)(2)(iii: NYISO-NYSEG 205: LGIA Prattsburgh Wind (CEII) to be effective 5/28/2025.

Filed Date: 6/11/25.

Accession Number: 20250611-5024.

Comment Date: 5 p.m. ET 7/2/25.

Docket Numbers: ER25-2485-000.

Applicants: New York Independent System Operator, Inc.

Description: Tariff Amendment: Notice of Cancellation: EPC Agreement SA 2622 among NYISO, NYPA, and NY Transco to be effective 8/11/2025.

Filed Date: 6/11/25.

Accession Number: 20250611-5028.

Comment Date: 5 p.m. ET 7/2/25.

Docket Numbers: ER25-2486-000.

Applicants: PJM Interconnection, L.L.C.

Description: Tariff Amendment: Notice of Cancellation of GIA, SA No. 7604; AF2-020 re: withdrawn to be effective 8/11/2025.

Filed Date: 6/11/25.

Accession Number: 20250611-5045.

Comment Date: 5 p.m. ET 7/2/25.

Docket Numbers: ER25-2487-000.

Applicants: Arizona Public Service Company.

Description: § 205(d) Rate Filing: Service Agreement No. 433—E&P w/Agua Fria to be effective 5/20/2025.

Filed Date: 6/11/25.

Accession Number: 20250611-5053.

Comment Date: 5 p.m. ET 7/2/25.

Docket Numbers: ER25-2488-000.

Applicants: Southwest Power Pool, Inc.

Description: § 205(d) Rate Filing: 4394 Butler County Solar GIA to be effective 5/15/2025.

Filed Date: 6/11/25.

Accession Number: 20250611-5068.

Comment Date: 5 p.m. ET 7/2/25.

Docket Numbers: ER25-2489-000.

Applicants: PJM Interconnection, L.L.C.

Description: § 205(d) Rate Filing: Amendment to ISA, SA No. 5561; Queue No. AC1-043/AD1-115 (amend) to be effective 8/11/2025.

Filed Date: 6/11/25.

Accession Number: 20250611-5095.

Comment Date: 5 p.m. ET 7/2/25.

Docket Numbers: ER25-2490-000.

Applicants: Southwest Power Pool, Inc.

Description: § 205(d) Rate Filing: 2881R20 City of Chanute, KS NITSA NOA to be effective 6/1/2025.

Filed Date: 6/11/25.

Accession Number: 20250611-5169.

Comment Date: 5 p.m. ET 7/2/25.

Docket Numbers: ER25-2491-000.

Applicants: Southwest Power Pool, Inc.

Description: § 205(d) Rate Filing: 1266R19 Kansas Municipal Energy Agency NITSA and NOA to be effective 9/1/2025.

Filed Date: 6/11/25.

Accession Number: 20250611-5181.

Comment Date: 5 p.m. ET 7/2/25.

Docket Numbers: ER25-2492-000.

Applicants: Southwest Power Pool, Inc.

Description: § 205(d) Rate Filing: 1976R16 FreeState Electric Cooperative, Inc. NITSA and NOA to be effective 9/1/2025.

Filed Date: 6/11/25.

Accession Number: 20250611-5192.

Comment Date: 5 p.m. ET 7/2/25.

Take notice that the Commission received the following electric securities filings:

Docket Numbers: ES25-49-000.

Applicants: Upper Michigan Energy Resources Corporation.

Description: Application Under Section 204 of the Federal Power Act for Authorization to Issue Securities of Upper Michigan Energy Resources Corporation.

Filed Date: 6/9/25.

Accession Number: 20250609-5238.

Comment Date: 5 p.m. ET 6/30/25.

Take notice that the Commission received the following PURPA 210(m)(3) filings:

Docket Numbers: QM25-4-000.

Applicants: North Carolina Electric Membership Corporation.

Description: Application of North Carolina Electric Membership Corporation to Terminate Its Mandatory Purchase Obligation under the Public Utility Regulatory Policies Act of 1978.

Filed Date: 6/10/25.

Accession Number: 20250610-5230.

Comment Date: 5 p.m. ET 7/1/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 11, 2025.
Carlos D. Clay,
Deputy Secretary.

[FR Doc. 2025-11001 Filed 6-13-25; 8:45 am]

BILLING CODE 6717-01-P